DEPARTMENT OF COMMERCE

International Trade Administration

[A-570-836]

Glycine From the People's Republic of China: Final Results of Antidumping Duty Administrative Review

AGENCY: Import Administration, International Trade Administration, Department of Commerce.

SUMMARY: On April 4, 2008, the Department of Commerce (“Department”) published the preliminary results and partial rescission of the 2006-2007 administrative review of the antidumping duty order on glycine from the People's Republic of China (“PRC”). See Glycine from the People's Republic of China: Preliminary Results of Antidumping Duty Administrative Review and Partial Rescission, 73 FR 18503 (April 4, 2008) (“Preliminary Results”). We gave interested parties an opportunity to comment on the Preliminary Results. Based upon our analysis of the comments and information received, we made changes to the margin calculation for the final results. We find that certain manufacturers/exporters sold subject merchandise at less than normal value during the period of review (“POR”) March 1, 2006, through February 28, 2007.

DATES: Effective Date: September 26, 2008.

FOR FURTHER INFORMATION CONTACT: Erin Begnal or Toni Dach, AD/CVD Operations, Office 9, Import Administration, International Trade Administration, U.S. Department of Commerce, 14th Street and Constitution Avenue, NW., Washington, DC 20230; telephone: (202) 482-1442 or (202) 482-1655, respectively.

SUPPLEMENTARY INFORMATION:

Background

The following events have occurred subsequent to the publication of the Preliminary Results. On April 10, 2008, the Department issued Baoding Mantong Fine Chemistry Co., Ltd. (“Baoding Mantong) a supplemental questionnaire, and Baoding Mantong submitted its response to the Department's supplemental questionnaire on April 17, 2008. On April 24, 2008, the Department extended the deadline for submitting surrogate value (“SV”) information, and for submitting case briefs and rebuttal briefs. On April 30, 2008, the Department further extended the deadline for submitting case briefs and rebuttal briefs.

On May 8, 2008, parties submitted SV comments, and on May 19, 2008, Geo Specialty Chemicals Inc. (“Petitioner”) submitted rebuttal comments. On May 19, 2008, Baoding Mantong submitted its case brief, and on May 28, 2008, Petitioner submitted its case brief. On June 3, 2008, Baoding Mantong submitted its rebuttal brief, and on June 4, 2008, Petitioner submitted its rebuttal brief. On June 18, 2008, the Department rejected Baoding Mantong's rebuttal brief for containing new factual information, which Baoding Mantong resubmitted on June 19, 2008. On July 15, 2008, we extended the time limit for the completion of the final results of this review by thirty days until September 2, 2008. See Notice of Extension of Time Limit for Final Results of the Antidumping Duty Administrative Review: Glycine from the People's Republic of China, 73 FR 40480 (July 15, 2008). On August 29, 2008, we extended the time limit for completion of the final results by an extra 17 days until September 19, 2008. See Notice of Extension of Time Limit for Final Results of the Antidumping Duty Administrative Review: Glycine from the People's Republic of China, 73 FR 50939 (August 29, 2008). Scope of the Order

The product covered by the order is glycine, which is a free-flowing crystalline material, like salt or sugar. Glycine is produced at varying levels of purity and is used as a sweetener/taste enhancer, a buffering agent, reabsorbable amino acid, chemical intermediate, and a metal complexing agent. This review covers glycine of all purity levels. Glycine is currently classified under subheading 2922.49.4020 of the Harmonized Tariff Schedule of the United States (“HTSUS”). Although the HTSUS subheading is provided for convenience and Customs purposes, the written description of the merchandise under the order is dispositive.

Analysis of Comments Received

All issues raised in the briefs are addressed in the Issues and Decision Memorandum for the Final Results in the 2006-2007 Administrative Review of Glycine from the People's Republic of China from Stephen J. Claeys, Deputy Assistant Secretary, to David M. Spooner, Assistant Secretary, dated September 19, 2008, (“I&D Memo”), which is hereby adopted by this notice. A list of the issues raised, all of which are addressed in the I&D Memo, is attached to this notice as Appendix I. Parties can find a complete discussion of all issues raised in the briefs and the corresponding recommendations in this public memorandum, which is on file in the Central Records Unit (“CRU”), room 1117 of the Department of Commerce. In addition, a complete version of the I&D Memo can be accessed directly on the Web at http://trade.gov/ia. The paper copy and electronic version of the I&D Memo are identical in content.

Separate Rates

Baoding Mantong requested a separate, company-specific antidumping duty rate. In the Preliminary Results, we found that Baoding Mantong met the criteria for the application of a separate antidumping duty rate. Preliminary Results, 73 FR at 18505. Therefore, the Department has applied a rate to Baoding Mantong separate from the rate established for the PRC-wide entity. Also in the Preliminary Results, the Department found that Nantong Dongchang Chemical Industry Corporation (“Nantong Dongchang”) ceased to participate in the administrative review without having demonstrated its entitlement to a separate rate. Id. Accordingly, Nantong Dongchang does not qualify for separate rate status, but rather is appropriately considered to be part of the PRC-wide entity which is assigned a rate of 155.89 percent based on facts otherwise available with an adverse inference (“AFA”). Id. The Department did not receive comments on this issue prior to these final results.

Use of Facts Otherwise Available and the PRC-Wide Rate

As noted above, the Department found that Nantong Dongchang did not establish its eligibility for separate rate status, and thus is deemed to be part of the PRC-wide entity. Also, in the Preliminary Results, the Department noted that Nantong Dongchang ceased participating in the administrative review, and did not respond to any portions of the Department's questionnaires. As the Department found that the PRC-wide entity, which includes Nantong Dongchang, failed to cooperate to the best of its ability in responding to the Department's requests for information and thereby impeded the Department's proceeding, the Department assigned the PRC-wide entity a rate based on AFA pursuant to sections 776(a)(2)(A), (B), and (C) and section 776(b) of the Tariff Act of 1930, as amended (“the Act”). See Preliminary Results at 73 FR at 18506. The Department did not receive any comments regarding its preliminary application of AFA to the PRC-wide entity. See Preliminary Results, 73 FR at 18505-18507. Therefore, for these final results, the Department has not altered its analysis or decision to apply total AFA to the PRC-wide entity.

Changes Since the Preliminary Results

Based on our analysis of information on the record of this review, and comments received from the interested parties, we have made changes to the margin calculations for Baoding Mantong.

We have made modifications to our selecetion of certain SVs used in the Preliminary Results. The values that were modified for these final results are those for steam coal, acetic acid, liquid chlorine, and the surrogate financial ratios. For further details see I&D Memo at Comments 1, 2, 4, and 5, and Memorandum to the File through Scot T. Fullerton, Program Manager, Office 9 from Toni Dach, International Trade Analyst, Office 9, regarding, “Administrative Review of Glycine from the People's Republic of China: Surrogate Values for the Final Results,” dated September 19, 2008.

We determine that the following antidumping duty margins exist for the period of March 1, 2006, through February 28, 2007:

Exporter | Margin (percent)
Baoding Mantong Fine Chemistry Co., Ltd. | 52.02
PRC-Wide Rate (including Nantong Dongchang Chemical Industry Corporation) | 155.89

Assessment Rates

Pursuant to section 751(a)(2)(A) of the Act and 19 CFR 351.212(b)(1), the Department will determine, and U.S. Customs and Border Protection (“CBP”) shall assess, antidumping duties on all appropriate entries. The Department intends to issue assessment instructions to CBP 15 days after the date of publication of these final results of review.

Cash Deposit Requirements

The following cash deposit requirements will be effective upon publication of this notice of final results of administrative review for all shipments of glycine from the PRC entered, or withdrawn from warehouse, for consumption on or after the date of publication, as provided by section 751(a)(2)(C) of the Act: (1) For Baoding Mantong, which has a separate rate, the cash deposit rate will be the company-specific rate shown above; (2) for previously reviewed or investigated companies not listed above that have a separate rate, the cash deposit rate will continue to be the company-specific rate published for the most recent period; (3) the cash deposit rate for all other PRC exporters will be 155.89 percent, the current PRC-wide rate; and (4) the cash deposit rate for all non-PRC exporters will be the rate applicable to the PRC exporter that supplied that exporter. These cash deposit requirements shall remain in effect until further notice.

Notification to Interested Parties

This notice serves as the final reminder to importers of their responsibility under 19 CFR 351.402(f)(2) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (“APO”) of their responsibility concerning the return/destruction or conversion to judicial protective order of proprietary information disclosed under APO in accordance with 19 CFR 351.305(a)(3). Failure to comply is a violation of the APO.

This notice of final results is issued and published in accordance with sections 751(a)(1) and 777(i)(1) of the Act.

Dated: September 19, 2008.
David M. Spooner,
Assistant Secretary for Import Administration.

Appendix I

List of Issues

Comment 1: Surrogate Value for Steam Coal.

Comment 2: Surrogate Value for Acetic Acid.

Comment 3: Surrogate Value for Ammonia.

Comment 4: Surrogate Financial Ratios.

Comment 5: Surrogate Value for Chlorine.

Comment 6: Surrogate Value for Truck Freight.

[FR Doc. E8-22714 Filed 9-25-08; 8:45 am]

BILLING CODE 3510-DS-P